DEPARTMENT OF COMMERCE

International Trade Administration

[A-570-905]

Certain Polyester Staple Fiber From the People's Republic of China: Final Results of the Antidumping Duty Administrative Review; 2015-2016

AGENCY: Enforcement and Compliance, International Trade Administration, U.S. Department of Commerce.

SUMMARY: The Department of Commerce (the Department) conducted an administrative review of the antidumping duty order on certain polyester staple fiber from the People's Republic of China (PRC), for the period of review (POR), June 1, 2015, through May 31, 2016. On March 3, 2017, the Department published the preliminary results of this review, and received no comments from interested parties. As the Department continues to determine that the sole remaining mandatory respondent under review failed to establish its eligibility for a separate rate for the POR, and thus, is part of the PRC-wide entity, the final results do not differ from the preliminary results. The final dumping margin of sales at the PRC-Wide Entity rate is listed below in the “Final Results” section of this notice.

DATES: Effective May 22, 2017.

FOR FURTHER INFORMATION CONTACT: Julia Hancock or Courtney Canales, AD/CVD Operations, Office V, Enforcement and Compliance, International Trade Administration, U.S. Department of Commerce, 1401 Constitution Avenue NW., Washington DC 20230; telephone: (202) 482-1394 or (202) 482-4997, respectively.

SUPPLEMENTARY INFORMATION:

Background

On March 3, 2017, the Department published the Preliminary Results.¹ No party submitted comments on the Preliminary Results.

¹ See Certain Polyester Staple Fiber from the People's Republic of China: Preliminary Results and Partial Rescission of the Antidumping Duty Administrative Review; 2015-2016, 82 FR 12435 (March 3, 2017) (Preliminary Results).

Scope of the Order

The merchandise subject to the order is certain polyester staple fiber. The product is currently classified under the Harmonized Tariff Schedule of the United States (HTSUS) numbers 5503.20.0045 and 5503.20.0065. Although the HTSUS numbers are provided for convenience and customs purposes, the written description of the scope of the order remains dispositive.²

² For a full description of the scope, see Memorandum from James Maeder, Senior Director, Office I, AD/CVD Operations, to Ronald K. Lorentzen, Acting Assistant Secretary for Enforcement and Compliance, entitled, “Certain Polyester Staple Fiber from the People's Republic of China: Decision Memorandum for the Preliminary Results of the 2015-2016 Antidumping Duty Administrative Review,” (Preliminary Decision Memorandum) dated February 27, 2017.

Final Results of Review

As noted in the Preliminary Results, the sole mandatory respondent, Hangzhou Huachuang Co., Ltd. (Hangzhou Huachuang), did not respond to the antidumping questionnaire, and failed to establish its eligibility for a separate rate.³ As such, consistent with the Department's practice regarding conditional review of the PRC-wide entity, the Department determines that Hangzhou Huachuang remains part of the PRC-wide entity.⁴ Under this practice, the PRC-wide entity will not be under review unless a party specifically requests, or the Department self-initiates, a review of the entity.⁵ Because no party requested a review of the PRC-wide entity, the entity is not under review and the entity's rate is not subject to change. Therefore, for these final results, we will instruct U.S. Customs and Border Protection (CBP) to liquidate Hangzhou Huachuang's entries at the rate previously established for the PRC-wide entity, which is 44.30 percent.

³ See Preliminary Results, 82 FR 12435.

⁴ See Preliminary Decision Memorandum at 2-4.

⁵ See Antidumping Proceedings: Announcement of Change in Department Practice for Respondent Selection in Antidumping Duty Proceedings and Conditional Review of the Nonmarket Economy Entity in NME Antidumping Duty Proceedings, 78 FR 65963, 65970 (November 4, 2013).

The final weighted-average dumping margin is as follows:

Exporter | Estimated weighted-average margin (percent)
PRC-Wide Entity ⁶ | 44.30

Assessment Rates

⁶ The PRC-wide entity includes mandatory respondent, Hangzhou Huachuang.

Because Hangzhou Huachuang did not respond to the antidumping duty questionnaire, and is thus a part of the PRC-wide entity, we have not calculated any assessment (or cash deposit) rates in this review. The Department intends to issue assessment instructions to CBP 15 days after the publication date of the final results of this review.

Cash Deposit Requirements

The following cash deposit requirements will be effective upon publication of the final results of this administrative review for all shipments of the subject merchandise from the PRC entered, or withdrawn from warehouse, for consumption on or after the publication date, as provided for by section 751(a)(2)(C) of the Act: (1) For previously investigated or reviewed PRC and non-PRC exporters not listed above that have separate rates, the cash deposit rate will continue to be the exporter-specific rate published for the most recent period; (2) for all PRC exporters of subject merchandise which have not been found to be entitled to a separate rate, the cash deposit rate will be the PRC-Wide rate of 44.30 percent; and (3) for all non-PRC exporters of subject merchandise which have not received their own rate, the cash deposit rate will be the rate applicable to the PRC exporters that supplied that non-PRC exporter. The deposit requirements, when imposed, shall remain in effect until further notice.

Disclosure

Because the Department determined that the sole remaining respondent under review, Hangzhou Huachuang, is part of the PRC-wide entity, and has been assigned the PRC-wide rate; no disclosure of calculations is necessary for these final results.

Notification to Importers

This notice also serves as a final reminder to importers of their responsibility under 19 CFR 351.402(f) to file a certificate regarding the reimbursement of antidumping duties prior to liquidation of the relevant entries during this POR. Failure to comply with this requirement could result in the Department's presumption that reimbursement of antidumping duties occurred and the subsequent assessment of doubled antidumping duties.

Administrative Protective Orders

This notice also serves as a reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

We are issuing and publishing these final results of administrative review in accordance with sections 751(a)(1) and 777(i) of the Act.

Dated: May 16, 2017.
Ronald K. Lorentzen,
Acting Assistant Secretary for Enforcement and Compliance.

[FR Doc. 2017-10351 Filed 5-19-17; 8:45 am]

BILLING CODE 3510-DS-P